DEPARTMENT OF ENERGY

Capabilities of Universities and Private-Sector Firms for Providing Technical Assistance to States, U.S. Territories, Indian Tribes, and Other Eligible Entities To Enhance the Resilience of Electricity Delivery Systems

AGENCY: Grid Deployment Office (GDO), U.S. Department of Energy (DOE).

ACTION: Request for information.

SUMMARY: The U.S Department of Energy (DOE) is seeking information from universities and private-sector firms, including non-profit organizations, on their capabilities for providing assistance to States, U.S. Territories, Indian Tribes, and other eligible entities to enhance their ability to plan and implement strategies for improving the resilience of systems that deliver electric power. Towards that aim, DOE requests that interested parties provide responses to the set of questions presented within this notice. DOE intends to use this information to ascertain the best available resources and approach for carrying out a technical assistance program under the Infrastructure Improvement and Jobs Act of 2021 (IIJA).

DATES: Responses to the RFI must be received by no later than 5:00 p.m. EDT on November 21, 2022.

ADDRESSES: Interested parties are to submit responses to the following email address: 40101TA@hq.doe.gov. Include “40101 TA RFI” in the subject line of the email. Responses must be provided as a Microsoft Word (.docx) or PDF attachment to the email, and no more than 10 pages in length, 12-point font, 1-inch margins. It is recommended that attachments with file sizes exceeding 25MB be compressed (i.e., zipped) to ensure message delivery. Only electronic responses will be accepted. For ease of replying and to aid categorization of your responses, please copy and paste the RFI questions, including the question numbering, and use them as a template for your response. Respondents may answer as many or as few questions as they wish. Respondents are requested to provide the following information at the start of their response to this RFI:

• Company/institution name.

• Company/institution contact.

• Contact's address, phone number, and email address.

FOR FURTHER INFORMATION CONTACT: Joe Paladino, (202) 586-0020, 40101TA@hq.doe.gov. Submitting inquiries to the email address is preferred.

SUPPLEMENTARY INFORMATION: The purpose of the IIJA section 40101, Preventing Outages and Enhancing the Resilience of the Electric Grid, is to help States, U.S. Territories, Indian Tribes, and other entities eligible to receive funding deploy a variety of measures to improve the resilience of the electric grid against disruptive events in which the operations of the electric grid are disrupted, preventively shut off, or cannot operate safely due to extreme weather, wildfire, natural disasters, or cyber-attacks.¹ These measures may range from hardening assets to deploying more advanced practices and grid technologies, including energy storage systems and microgrids, for improving resilience.

¹ The entirety of the Infrastructure Investment and Jobs Act (IIJA), Public Law 117-58, is available at: https://www.congress.gov/bill/117th-congress/house-bill/3684/text. IIJA Section 40101 defines an eligible entity as being (a) an electric grid operator, (b) an electricity storage operator, (c) an electricity generator, (d) a transmission owner or operator, (e) a distribution provider, (f) a fuel supplier, and (g) any other relevant entity, as determined by DOE.

Under this program, DOE is interested in helping entities better understand the implication of threats to their electricity delivery system and determine strategies for improving its resilience. This may include the formulation of planning guidelines that set priorities for mitigating impacts to critical facilities and services, as well as for investments that will lead to measurable enhancements in the resilience of infrastructure intended to provide reliable electric power. In addition, DOE will encourage the application of energy justice principles in efforts to determine and implement resilience measures so that the benefits derived from them are realized in an equitable manner by all.²

² Information on DOE's Justice40 Initiative is available at: https://www.energy.gov/diversity/justice40-initiative.

The technical assistance envisioned would apply expert capabilities in several areas including, for example:

1. Forecasting methods and tools to determine customer electricity demand, the adoption of distributed energy resources, and weather/climate parameters (e.g., temperature, rainfall, windspeed, flooding/inundation) at national, regional, and local levels.

2. Risk assessment methods, tools, and processes to examine risks and their impacts on energy infrastructure, essential human services (e.g., water supply and emergency services), and vulnerable populations to prioritize resilience investments.

3. Modeling and simulation methods and tools to determine the severity and impact of threats on energy and electricity infrastructure at national, regional, and local levels.

4. Methods and tools for multi-objective decision analysis to enable the prioritization of electric infrastructure investment options across a range of policy objectives.

5. Methods and tools for addressing energy equity (e.g., relating to procedural, distributive, and restorative energy justice principles) in the determination of resilience measures.³

³ Ibid.

6. Cost-effectiveness methods and tools to ascertain the appropriateness and benefit of infrastructure investments to aid decision-making.

Where it may pertain to their specific capabilities, areas of expertise, or business interests, DOE would like interested parties to provide responses to the following questions:

1. What methods, tools, and datasets would you recommend for undertaking efforts associated with any of the areas of expertise listed previously? What methods, tools, and datasets are you developing, have developed, and/or applied for undertaking any of these areas of expertise? What additional advancements (e.g., spatial or temporal resolution) are needed to improve these methods, tools, and datasets?

2. What approaches (e.g., partnerships and business models) would you recommend for providing services and technical assistance in the areas of expertise listed above? What successful approaches have you observed and/or have undertaken in providing such services and technical assistance in ways that have specifically benefited States, U.S. Territories, Indian Tribes, and/or other eligible entities?

3. What are the current limitations in planning frameworks for improving the resilience of electricity delivery systems and how would you address them?

Interested parties may also provide reference documents and website links to support their responses.

Proprietary Information: Because information received in response to this RFI may be used to structure future programs and/or otherwise be made available to the public, respondents are strongly advised NOT to include any information in their responses that might be considered business sensitive, proprietary, or otherwise confidential. If, however, a respondent chooses to submit business sensitive, proprietary, or otherwise confidential information, it must be clearly and conspicuously marked as such in the response. Responses containing confidential, proprietary, or privileged information must be conspicuously marked as described below. Failure to comply with these marking requirements may result in the disclosure of the unmarked information under the Freedom of Information Act or otherwise. The U.S. Federal Government is not liable for the disclosure or use of unmarked information and may use or disclose such information for any purpose.

Confidential, Commercial, and Financial Information: Consistent with 10 CFR 1004.11, DOE requires that any person submitting information that he or she believes to be confidential and exempt by law from public disclosure should submit via email two well-marked copies: one copy of the document marked “Confidential Commercial and Financial Information” including all the information believed to be confidential, and one copy of the document marked “non-confidential” with the information believed to be confidential deleted. DOE will make its own determination about the confidential status of the information and treat it according to its determination. The copy containing confidential commercial and financial information must include a cover sheet marked as follows identifying the specific pages containing confidential, proprietary, or privileged information: “Notice of Restriction on Disclosure and Use of Data: Pages [list applicable pages] of this response may contain confidential, commercial, or financial information that is exempt from public disclosure.” The Government may use or disclose any information that is not appropriately marked or otherwise restricted, regardless of source. In addition, (1) the header and footer of every page that contains confidential, proprietary, or privileged information must be marked as follows: “Contains Confidential, Commercial, or Financial Information Exempt from Public Disclosure” and (2) every line and paragraph containing proprietary, privileged, or trade secret information must be clearly marked with [[double brackets]] or highlighting.

Signing Authority

This document of the Department of Energy was signed on September 30, 2022, by Maria D. Robinson, Director of the Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document on publication in the Federal Register.

Signed in Washington, DC, on October 4, 2022.
Treena V. Garrett,
Federal Register Liaison Officer, U.S. Department of Energy.

[FR Doc. 2022-21892 Filed 10-6-22; 8:45 am]

BILLING CODE 6450-01-P